DEPARTMENT OF JUSTICE

Antitrust Division

Notice Pursuant to the National Cooperative Research and Production Act of 1993; Cooperative Research Group on Pre-Ignition Prevention Program

Notice is hereby given that, on September 13, 2011, pursuant to Section 6(a) of the National Cooperative Research and Production Act of 1993, 15 U.S.C. 4301 et seq. (“the Act”), Southwest Research Institute—Cooperative Research Group on Pre-Ignition Prevention Programs (“P3”) has filed written notifications simultaneously with the Attorney General and the Federal Trade Commission disclosing (1) The identities of the parties to the venture and (2) the nature and objectives of the venture. The notifications were filed for the purpose of invoking the Act's provisions limiting the recovery of antitrust plaintiffs to actual damages under specified circumstances.

Pursuant to Section 6(b) of the Act, the identities of the parties to the venture are: Ford Motor Company, Dearborn, MI; GM Global Technology Operations, Inc., Detroit, MI; Honda, Tochigi, Japan; Infineum, Linden, NJ; PCA Peugeot Citroen Automobiles, Veliz-Villacoublay Cedex, France; Suzuki Motor Corporation, Hamamatsu City, Japan; and Toyota, Aichi, Japan. The general area of P3's planned activity is to develop a fundamental understanding of the factors that lead to low speed pre-ignition (LSPI), and design a solution to eliminate it. Secondary objectives are to understand the effect of lube oil properties and their interaction with fuel on LSPI, understand how hardware design can be used to mitigate the effect of lube oil on LSPI, and develop fuel and/or lube specification and test methodology that allows P3 to identify fluids that improve LSPI performance. Membership in this group research project remains open, and P3 intends to file additional written notification disclosing all changes in membership or planned activities.

Patricia A. Brink,
Director of Civil Enforcement, Antitrust Division.

[FR Doc. 2011-26430 Filed 10-12-11; 8:45 am]

BILLING CODE 4410-11-M